DEPARTMENT OF DEFENSE

Office of the Secretary

32 CFR Part 242b

[Docket ID: DOD-2019-OS-0020]

RIN 0790-AK37

General Procedures and Delegations of the Board of Regents, Uniformed Services University of the Health Sciences

AGENCY: Under Secretary of Defense for Personnel and Readiness, Department of Defense.

ACTION: Final rule.

SUMMARY: This final rule removes the Department of Defense (DoD) regulation, not updated since March 23, 1989, relating to the general procedures and delegations of authority of the Board of Regents (BOR), Uniformed Services University of the Health Sciences' (University), which includes the composition of the BOR, administrative procedures for its meetings, and voting requirements. The regulation also identifies a standing committee of the BOR, officers of the BOR and the University, and rules for amending the BOR's procedures. Because the BOR is now a federal advisory committee, its policies and procedures do not require rulemaking, and it no longer appoints officers of the University. Therefore, this rule is outdated, unnecessary and can be removed from the Code of Federal Regulations (CFR).

DATES: This rule is effective on June 21, 2019.

FOR FURTHER INFORMATION CONTACT: Steven J. Weiss, Associate General Counsel, Uniformed Services University of the Health Sciences, 4301 Jones Bridge Road, Room A-1030. Email: steven.weiss@usuhs.edu. Telephone: (301) 295-3028. Facsimile: (301) 295-6681.

SUPPLEMENTARY INFORMATION: In support of a recommendation from the DoD Regulatory Reform Task Force, DoD is removing this regulation, which contains administrative procedures for the BOR and sets forth certain officers of the University to be appointed by the BOR. This rule was first published on January 19, 1978 (42 FR 63775) and last updated on March 23, 1989 (54 FR 11946). Since that time, section 8091 of Public Law 101-511 (November 5, 1990) transferred all authorities from the BOR to the Secretary of Defense and stated “. . . the Board hereafter shall be an advisory board to the Secretary of Defense.” Since the 1990 change, the BOR complies with the Federal Advisory Committee Act (5 U.S.C. App.), the General Services Administration's Federal Advisory Committee Management Final Rule (41 CFR part 102-3), and 10 U.S.C. 2113a. Further, the BOR no longer appoints officers of the University. Accordingly, this part is outdated and unnecessary.

On March 28, 2019 (84 FR 11754), DoD published a notice in the Federal Register to announce that it is renewing the charter of the BOR. The BOR's charter and contact information for the BOR's Designated Federal Officer can be found at https://www.facadatabase.gov/FACA/apex/FACAPublicAgencyNavigation.

It has been determined that publication of this CFR part removal for public comment is impracticable, unnecessary, and contrary to public interest since it is based on removing outdated and unnecessary information from the CFR.

This rule is not significant under Executive Order (E.O.) 12866, “Regulatory Planning and Review,” therefore, E.O. 13771, “Reducing Regulation and Controlling Regulatory Costs” does not apply.

List of Subjects in 32 CFR Part 242b

Medical and dental schools, Organization and functions (Government agencies).

PART 242b—[REMOVED]

Accordingly, by the authority of 5 U.S.C. 301, 32 CFR part 242b is removed.

Dated: June 17, 2019.
Shelly E. Finke,
Alternate OSD Federal Register Liaison Officer, Department of Defense.

[FR Doc. 2019-13197 Filed 6-20-19; 8:45 am]

BILLING CODE 5001-06-P